DEPARTMENT OF THE INTERIOR

Office of the Secretary

43 CFR Part 4

RIN 1094-AA53

Interior Board of Land Appeals and Other Appeals Procedures

Correction

In rule document 2010-26200 beginning on page 64655 in the issue of Wednesday, October 20, 2010 make the following correction:

§ 4.400 [Corrected]

On page 64664, in § 4.400, in the second column, in the first and second lines, “provided in the Bureau decision under appeal” should read “provided in the Bureau or Office decision under appeal.”

[FR Doc. C1-2010-26200 Filed 11-8-10; 8:45 am]

BILLING CODE 1505-01-D